DEPARTMENT OF COMMERCE

National Oceanic and Atmospheric Administration

Proposed Information Collection; Comment Request; Pacific Islands Region, Guam Bottomfish Large Vessel Logbook and Reporting

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 24, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Anik Clemens (808) 944-2265 or anik.clemens@noaa.gov.

SUPPLEMENTARY INFORMATION:

I. Abstract

Under a Guam Bottomfish Large Vessel Fishing Permit authorized under the Fishery Management Plan for Bottomfish of the Western Pacific Region, the National Marine Fisheries Service (NMFS) requires U.S. fishing vessels registered for use, or any U.S. citizen issuee, to maintain on board the vessel an accurate and complete logbook and submit it to NMFS. The information in the logbook is used to obtain fish catch, fishing effort, and other data on bottomfish harvested in the area outside 50 nm of Guam shores. These data are needed to determine the condition of the fish stocks and whether or not the current management measures are having the intended effects, to evaluate the benefits and costs of changes in management measures, and to monitor and respond to incidental takes of endangered and threatened species.

II. Method of Collection

All information is recorded on paper logbook sheets.

III. Data

OMB Number: None.

Form Number: None.

Type of Review: Regular submission.

Affected Public: Business or other for-profits organizations; individuals or households.

Estimated Number of Respondents: 5.

Estimated Time Per Response: 30 minutes.

Estimated Total Annual Burden Hours: 550.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 17, 2005.
Gwellnar Banks,
Management Analyst, Office of the Chief Information Officer.

[FR Doc. 05-16663 Filed 8-22-05; 8:45 am]

BILLING CODE 3510-22-P